Title 3—

The President

Proclamation 8801 of April 20, 2012

National Park Week, 2012

By the President of the United States of America

A Proclamation

When President Theodore Roosevelt first took office over a century ago, he embarked on a tour of the American West that would change his life and the life of our Nation forever. He traveled from Yellowstone’s geysers, to Yosemite’s granite cliffs, to Dakota’s Badlands, ever moved by the natural wonders of which he and all Americans were proud inheritors. As he explored wild country, he heard a call to preserve our country’s heritage that echoed throughout our forests and river valleys. He remarked of the Grand Canyon, “the ages have been at work on it, and man can only mar it.”

From that sense of commitment sprang five National Parks, 18 National Monuments, 51 Federal bird reservations, and 150 National Forests. From that commitment sprang an effort to save the great Redwoods of California and the Petrified Forest of Arizona, the great bird rocks of the Aleutian Islands and the Tongass of Alaska. President Roosevelt inspired a breathtaking legacy of conservation that has forever enriched our lives, and in the decades since his historic journey, millions have worked to build on his enduring mission. When the fate of our lands and waters has been cast into doubt, they have taken the long view—that as Americans and as inhabitants of this one small planet, it is up to us to preserve our national heritage for our children, grandchildren, and for the generations to come.

That spirit drives my Administration today. Since I took office, we have set aside more than 2 million acres of Federal wilderness and thousands of miles of trails and rivers under the Omnibus Public Land Management Act. Last November, I was proud to establish the Fort Monroe National Monument, forever enshrining a site of profound historical and cultural significance. Today, I designated Fort Ord as a National Monument that will not only protect one of the crown jewels of California’s coast—a world-class destination for hikers, mountain bikers, and outdoor enthusiasts—but also honor the heroism and dedication of men and women who served our Nation during the major conflicts of the 20th century. And with the America’s Great Outdoors Initiative, we continue to advance a smarter, more community-driven conservation and recreation strategy. We are partnering with cities and States to make it easier for families to spend time outside no matter where they live, and we are working to create jobs, boost rural economies, and increase tourism by enhancing public lands that draw travelers from across the globe. To celebrate National Park Week, all 397 National Parks will offer free admission from April 21 through April 29, 2012. I encourage every American to visit www.NPS.gov to find a nearby park and discover the land passed down to us by our forebears.

President Franklin Delano Roosevelt told us “There is nothing so American as our National Parks.” This week, we honor the uniquely American idea behind them: that each of us has an equal share in the land around us, and an equal responsibility to protect it. That call to conserve has echoed for generations—from Jefferson, to Lincoln, to Roosevelt, to all who have done their part to protect the land that they love. It is the call we hear today, and as we come together to celebrate our national heritage, let us reaffirm our promise to preserve America’s treasures for the generations yet to come.

NOW, THEREFORE, I, BARACK OBAMA, President of the United States of America, by virtue of the authority vested in me by the Constitution and the laws of the United States, do hereby proclaim April 21 through April 29, 2012, as National Park Week. I encourage all Americans to visit their national parks and be reminded of these unique blessings we share as a Nation.

IN WITNESS WHEREOF, I have hereunto set my hand this twentieth day of April, in the year of our Lord two thousand twelve, and of the Independence of the United States of America the two hundred and thirty-sixth.

[FR Doc. 2012-10099

Filed 4-24-12; 8:45 am]

Billing code 3295-F2-P